DEPARTMENT OF DEFENSE

Office of the Secretary

Submission for OMB Review; Comment Request

The Department of Defense has submitted to OMB for clearance, the following proposal for collection of information under the provisions of the Paperwork Reduction Act (44 U.S.C. Chapter 35). The Office of Management and Budget has approved this information collection requirement through February 29, 2004.

DATES: Consideration will be given to all comments received by November 24, 2003.

Title, Form, and OMB Number: Police Records Check; DD Form 369; OMB Number 0704-0007.

Type of Request: Extension of a Currently Approved Collection.

Number of Respondents: 125,000.

Responses Per Respondent: 1.

Annual Responses: 125,000.

Average Burden Per Response: 27 minutes.

Annual Burden Hours: 56,250.

Needs and Uses: Pursuant to Sections 504, 505, 508, and 12101 of Title 10 U.S.C., applicants for enlistment in the Armed Forces must be screened to identify any discreditable involvement with police or other law enforcement agencies. This information is used to identify persons who may be undesirable for military service. The DD Form 369, “Police Records Check,” is forwarded to law enforcement agencies to identify if an applicant has any disqualifying history regarding arrests or convictions.

Affected Public: State, Local, or Tribal Government.

Frequency: On Occasion.

Respondent's Obligation: Required to Obtain or Retain Benefits.

OMB Desk Officer: Ms. Jacqueline A. Zeiher. Written comments and recommendations on the proposed information collection should be sent to Ms. Zeiher at the Office of Management and Budget, Desk Officer for DoD, Room 10236, New Executive Office Building, Washington, DC 20503.

DOD Clearance Officer: Ms. Jacqueline J. Davis. Written requests for copies of the information collection proposal should be sent to Ms. Davis, WHS/DIOR, 1215 Jefferson Davis Highway, Suite 1204, Arlington, VA 22202-4302.

Dated: October 16, 2003.
Patricia L. Toppings,
Alternate OSD Federal Register Liaison Officer, Department of Defense.

[FR Doc. 03-26851 Filed 10-23-03; 8:45 am]

BILLING CODE 5001-08-M